DEPARTMENT OF THE INTERIOR

National Park Service

[NPS-WASO-NAGPRA-18065; PPWOCRADN0-PCU00RP14.R50000]

Notice of Intent To Repatriate Cultural Items: School for Advanced Research, Indian Arts Research Center, Santa Fe, NM

AGENCY: National Park Service, Interior.

ACTION: Notice.

SUMMARY: The School for Advanced Research, Indian Arts Research Center, in consultation with the appropriate Indian tribes or Native Hawaiian organizations, has determined that the cultural items listed in this notice meet the definition of sacred objects and objects of cultural patrimony. Lineal descendants or representatives of any Indian tribe or Native Hawaiian organization not identified in this notice that wish to claim these cultural items should submit a written request to the School for Advanced Research, Indian Arts Research Center. If no additional claimants come forward, transfer of control of the cultural items to the lineal descendants, Indian tribes, or Native Hawaiian organizations stated in this notice may proceed.

DATES: Lineal descendants or representatives of any Indian tribe or Native Hawaiian organization not identified in this notice that wish to claim these cultural items should submit a written request with information in support of the claim to the School for Advanced Research, Indian Arts Research Center at the address in this notice by May 28, 2015.

ADDRESSES: Brian Vallo, Director, School for Advanced Research, Indian Arts Research Center, P.O. Box 2188, Santa Fe, NM 87504-2188, telephone (505) 954-7271, email vallo@sarsf.org.

SUPPLEMENTARY INFORMATION: Notice is here given in accordance with the Native American Graves Protection and Repatriation Act (NAGPRA), 25 U.S.C. 3005, of the intent to repatriate cultural items under the control of the School for Advanced Research, Indian Arts Research Center, Santa Fe, NM, that meet the definition of sacred objects and objects of cultural patrimony under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Items

In 1944, Mrs. Frank Applegate donated two kachina masks (IAF.C220 and IAF.C221) and one stone axe with a wooden handle (IAF.C243) to the School for Advanced Research, Indian Arts Research Center. According to documentation, the two masks and the axe belonged to the Jemez Warrior Society at the Pueblo of Jemez. The School for Advanced Research, Indian Arts Research Center has no documentation on how Mrs. Applegate came to own the items.

In 1958, Roy Tilghman donated one round mask (IAF.C282) to the School for Advanced Research, Indian Arts Research Center. According to documentation, the mask is from the Pueblo of Jemez. The School for Advanced Research, Indian Arts Research Center has no documentation on how Mr. Tilghman came to own the item.

The four cultural items have each been identified as both sacred objects and objects of cultural patrimony. Pueblo of Jemez representatives have visited the School for Advanced Research, Indian Arts Research Center on several occasions (including three visits during the years 2008 to 2010) to view many items, including the three kachina masks and the stone axe listed in this notice. The review of the School for Advanced Research, Indian Arts Research Center's documentation, in addition to physical inspections by Pueblo of Jemez representatives, has resulted in confirmation from the Pueblo of Jemez's traditional leaders that the four items are of Pueblo of Jemez origin, supporting cultural affiliation, as well as determining that the four items meet the criteria for both sacred objects and objects of cultural patrimony. The School for Advanced Research, Indian Arts Research Center records, including catalog cards and other provenance information, indicate these objects to be of Pueblo of Jemez origin, further supporting the claim by the Pueblo of Jemez. On December 24, 2014, the Pueblo of Jemez submitted a repatriation request from the Governor for three of the sacred objects and objects of cultural patrimony (IAF.C220, IAF.C221, and IAF.C282, the three kachina masks). On February 19, 2015, the Pueblo of Jemez submitted a repatriation request from the Tribal Cultural Properties Project Manager for the fourth sacred object and object of cultural patrimony (IAF.C243, the stone axe).

Determinations Made by the School for Advanced Research, Indian Arts Research Center

Officials of the School for Advanced Research, Indian Arts Research Center have determined that:

• Pursuant to 25 U.S.C. 3001(3)(C), the 4 cultural items described above are specific ceremonial objects needed by traditional Native American religious leaders for the practice of traditional Native American religions by their present-day adherents.

• Pursuant to 25 U.S.C. 3001(3)(D), the 4 cultural items described above have ongoing historical, traditional, or cultural importance central to the Native American group or culture itself, rather than property owned by an individual.

• Pursuant to 25 U.S.C. 3001(2), there is a relationship of shared group identity that can be reasonably traced between the sacred objects and Pueblo of Jemez, New Mexico.

Additional Requestors and Disposition

Lineal descendants or representatives of any Indian tribe or Native Hawaiian organization not identified in this notice that wish to claim these cultural items should submit a written request with information in support of the claim to Brian Vallo, Director, School for Advanced Research, Indian Arts Research Center, P.O. Box 2188, Santa Fe, NM 87504-2188, telephone (505) 954-7271, email vallo@sarsf.org, by May 28, 2015. After that date, if no additional claimants have come forward, transfer of control of the sacred objects and objects of cultural patrimony to the Pueblo of Jemez, New Mexico, may proceed.

The School for Advanced Research, Indian Arts Research Center is responsible for notifying the Pueblo of Jemez, New Mexico, that this notice has been published.

Dated: April 7, 2015.
Mariah Soriano,
Acting Manager, National NAGPRA Program.

[FR Doc. 2015-09864 Filed 4-27-15; 8:45 am]

BILLING CODE 4312-50-P